DEPARTMENT OF COMMERCE

International Trade Administration

A-533-838

Carbazole Violet Pigment 23 from India: Extension of Time Limit for Preliminary Results of Antidumping Duty Administrative Review

AGENCY: Import Administration, International Trade Administration, Department of Commerce.

EFFECTIVE DATE: October 16, 2007.

FOR FURTHER INFORMATION CONTACT: Yang Jin Chun or Richard Rimlinger, AD/CVD Operations, Office 5, Import Administration, International Trade Administration, U.S. Department of Commerce, 14th Street and Constitution Avenue, NW., Washington, DC 20230; telephone: (202) 482-5760 and (202) 482-4477, respectively.

SUPPLEMENTARY INFORMATION:

Background

At the request of an interested party, the Department of Commerce (the Department) initiated the administrative review of the antidumping duty order on carbazole violet pigment 23 from India for the period December 1, 2005, through November 30, 2006. See Initiation of Antidumping and Countervailing Duty Administrative Reviews and Request for Revocation in Part, 72 FR 5005 (February 2, 2007). On August 22, 2007, we extended the due date for the completion of the preliminary results of reviews by 45 days. See Carbazole Violet Pigment 23 from India: Extension of Time Limit for Preliminary Results of Antidumping Duty Administrative Review, 72 FR 46954 (August 22, 2007). The preliminary results of the review are currently due no later than October 19, 2007.

Extension of Time Limit for Preliminary Results of Antidumping Duty Administrative Review

Section 751(a)(3)(A) of the Tariff Act of 1930, as amended (the Act), requires the Department to make a preliminary determination within 245 days after the last day of the anniversary month of an order for which a review is requested and a final determination within 120 days after the date on which the preliminary determination is published. If it is not practicable to complete the review within these time periods, section 751(a)(3)(A) of the Act allows the Department to extend the time limit for the preliminary determination to a maximum of 365 days after the last day of the anniversary month.

We determine that it is not practicable to complete the preliminary results of this review within the original time limit because we need additional time to obtain and analyze information regarding suspended entries of the subject merchandise during the period of review. Therefore, we are extending the time period for issuing the preliminary results of this review by 45 days until December 3, 2007.

This notice is published in accordance with section 751(a)(3)(A) of the Act and 19 CFR 351.213(h)(2).

Dated: October 10, 2007.
Stephen J. Claeys,
Deputy Assistant Secretary for Import Administration.

[FR Doc. E7-20346 Filed 10-15-07; 8:45 am]

BILLING CODE 3510-DS-S